DEPARTMENT OF THE INTERIOR

National Park Service

[NPS-WASO-NAGPRA-NPS0029320; PPWOCRADN0-PCU00RP14.R50000]

Notice of Inventory Completion: School of Social Science and Global Studies, University of Southern Mississippi, Hattiesburg, MS

AGENCY: National Park Service, Interior.

ACTION: Notice.

SUMMARY: The University of Southern Mississippi has completed an inventory of human remains, in consultation with the appropriate Indian Tribes or Native Hawaiian organizations, and has determined that there is a cultural affiliation between the human remains and present-day Indian tribes or Native Hawaiian organizations. Lineal descendants or representatives of any Indian Tribe or Native Hawaiian organization not identified in this notice that wish to request transfer of control of these human remains should submit a written request to the University of Southern Mississippi. If no additional requestors come forward, transfer of control of the human remains to the lineal descendants, Indian Tribes, or Native Hawaiian organizations stated in this notice may proceed.

DATES: Representatives of any Indian Tribe or Native Hawaiian organization not identified in this notice that wish to request transfer of control of these human remains should submit a written request with information in support of the request to the University of Southern Mississippi at the address in this notice by February 3, 2020.

ADDRESSES: Marie Elaine Danforth, Professor, School of Social Science and Global Studies, University of Southern Mississippi, 118 College Drive #5108, Hattiesburg, MS 39406-0001, telephone (601) 266-5629, email m.danforth@usm.edu.

SUPPLEMENTARY INFORMATION: Notice is here given in accordance with the Native American Graves Protection and Repatriation Act (NAGPRA), 25 U.S.C. 3003, of the completion of an inventory of human remains under the control of the School of Social Science and Global Studies, University of Southern Mississippi, Hattiesburg, MS. The human remains were removed from Hancock, Jackson, and Harrison Counties, MS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Southern Mississippi professional staff in consultation with representatives of the Mississippi Band of Choctaw Indians and The Choctaw Nation of Oklahoma (hereafter, they are referred to as “The Consulted Tribes”).

The Absentee-Shawnee Tribe of Indians of Oklahoma; Caddo Nation of Oklahoma; Catawba Indian Nation (aka Catawba Tribe of South Carolina); Cherokee Nation; Chitimacha Tribe of Louisiana; Coushatta Tribe of Louisiana; Eastern Band of Cherokee Indians; Eastern Shawnee Tribe of Oklahoma; Jena Band of Choctaw Indians; Kialegee Tribal Town; Miccosukee Tribe of Indians; Poarch Band of Creeks (previously listed as the Poarch Band of Creek Indians of Alabama); Seminole Tribe of Florida (previously listed as the Seminole Tribe of Florida (Dania, Big Cypress, Brighton, Hollywood & Tampa Reservations)); Shawnee Tribe; The Muscogee (Creek) Nation; The Seminole Nation of Oklahoma; Tunica-Biloxi Indian Tribe; and the United Keetoowah Band of Cherokee Indians in Oklahoma, were invited to consult but did not participate (hereafter, they are referred to as “The Invited Tribes”).

History and Description of the Remains

In 2014, human remains representing, at minimum, two individuals were removed from the Bass site (22HR636) in Hancock County, MS. The human remains were found on the surface by archeologist Brad Lieb (The Chickasaw Nation) in a chance visit to the site after utility work had taken place. The proximal femora appear to belong to two adult probable males and the temporal, humerus, ulna, axial elements, tibia, patella, talus, and hand elements are all adult. No known individuals were identified. No associated funerary objects are present.

In 1991, human remains representing, at minimum, two individuals were removed from the Cedarland site (22HA506) in Hancock County, MS. The human remains were initially discovered in the back dirt pile of a pothunter in 1991, by H. Edwin Jackson, a university archeologist conducting an excavation at the site. They were rediscovered while moving collections in early 2019. The proximal ulnar belongs to an adult male and an adult of undetermined sex and the humerus, femur, tibia, rib, and hand bones are all adult. No known individuals were identified. No associated funerary objects are present.

The remainder of the human remains listed in this notice were recently transferred from the Mississippi Department of Archives and History to the University of Southern Mississippi. Most of these human remains originally formed part of the collections of an amateur archeologist, who conducted numerous excavations on the Mississippi Coast from the 1960s through 1990s. No artifacts were reported to have been recovered in association with these human remains.

At an unknown date, human remains representing, at minimum, two individuals were removed from the Godsey site (22HR591) in MS. The human remains, which include a proximal femur and metacarpal, are adult. The gracile appearance of the femur suggests it belongs to a female. In addition, a third individual, represented by a single infant vertebral body, who was initially recovered in the early 1990s during excavation at the site by the University of Southern Mississippi, was rediscovered while moving archeological collections in early 2019. No known individuals were identified. No associated funerary objects are present.

In 1969-70, human remains representing, at minimum, one individual were removed from the Harvey site (22HR534) in MS. The human remains from at least one adult individual of indeterminate sex were recovered as part of an ossuary excavation conducted by the amateur archeologist. The human remains include small portions of a cranium, as well as the proximal sections of an ulna and femur. No known individuals were identified. No associated funerary objects are present.

At an unknown date, human remains representing, at minimum, two individuals were removed from Fugan Ridge Road in Jackson County, MS, when a grader cut into a shell midden. The skeletal elements were recovered by a collector, who gave them to the amateur archeologist. Fragments of femur and humerus appear to represent two adult individuals, one probable female and one probable male. No known individuals were identified. No associated funerary objects are present.

In the 1970's, human remains representing, at minimum, three individuals were removed from Bang's Lake on the east side of Bayou Cumbest in Jackson County, MS. The human remains represent at least three individuals, as indicated by three left zygomatics and three right proximal femora. Except for some vault fragments that might be juvenile, the skeletal elements appear to be adult. The human remains include a nearly complete female adult cranial vault, as well as numerous other fragments of cranium. The axial elements include several vertebrae, parts of scapulae, and portions of ossa coxae. Long bones comprise the largest portion of the assemblage. Four foot bones are also present. Elements belonging to both sexes appear to be present. No known individuals were identified. No associated funerary objects are present.

In 1969, human remains representing, at minimum, one individual were removed from the area of the J&N Railroad Bridge in Gautier, Jackson County, MS. A single cranium was recovered and given to the amateur archeologist. The vault of the cranium is relatively complete, but the facial region is missing. It appears to belong to a young to middle adult male and exhibits cranial modification. No known individuals were identified. No associated funerary objects are present.

At an unknown date, human remains representing, at minimum, one individual were removed from Bayou Cumbest I in Jackson County, MS; no site number is found for such a name. The human remains belong to a single adult, and are likely a male based on robusticity. They include some cranial vault fragments, as well as several long bone portions. Part of the ischium and one hand phalanx are also present. No known individuals were identified. No associated funerary objects are present.

In 1968, human remains representing, at minimum, three individuals were removed from Taneksanya (22JA504) in Jackson County, MS. Some of the human remains were exposed when an oak tree was overturned. Others were recovered after the site had been looted. While the minimum number of individuals is based on the presence of three right fragments of occipital base, the actual number of individuals present could be larger. At least one individual was male, based on cranial and pelvic morphology. A range of robusticity among the other skeletal elements was noted. No juveniles were present. The skeletal elements recovered include one posterior portion of cranium along with a number of other vault fragments from other individuals. Several parts of maxillae and mandibles were seen, as were axial portions, including sternum, vertebrae and ribs. Several ossa coxae fragments were present, including one that belonged to a male. Diaphyseal fragments from all of the long bones were present, as were several and foot bones. No known individuals were identified. No associated funerary objects are present.

In the 1970's, human remains representing, at minimum, four individuals were removed from Deer Island (22HR500) in Harrison County, MS. A cranium and ulna were found on the beach to the south of the village-midden site; both likely belonged to adult males, but not necessarily the same individual, since they were reportedly not in immediate proximity. Additional adult and juvenile human remains were recovered in a trench excavation on the east side of the site. According to notes accompanying the human remains, these additional individuals included a female in a flexed position with an infant in her arms. However, the presence of a female cannot be confirmed by the elements present, which include a small maxilla fragment and several loose teeth; portions of the diaphysis of femur, radius, and ulna; and a hand phalanx. The juvenile elements include three vault portions of differing thickness and color, a complete right ilium consistent with an infant aged 3-4 months old, and a vertebral arch consistent with a child aged 3-4 years old. No known individuals were identified. No associated funerary objects are present.

At an unknown date, human remains representing, at minimum, five individuals, were removed from Greenwood Island (22JA516) in Jackson County, MS. The human remains had been recovered primarily as isolated elements on the beach after eroding out of a nearby Early Woodland site. While the minimum number of individuals is based on portions of left mandible present, the actual number of individuals present could be larger. The human remains include several cranial fragments, mostly from the vault, and several loose teeth. Axial elements include left and right ilium and ischium fragments that are consistent with a single adult male, portions of scapula and clavicle, and a number of vertebrae. The appendicular elements include a number of upper limb long bones and several hand bones; femoral fragments from at least four different individuals; a pair of patellae; tibial and fibular portions; and numerous foot bones. Several of the elements appeared to be male based on robusticity, but at least one femur and humerus have epiphyses suggesting a female. No known individuals were identified. No associated funerary objects are present.

At an unknown date, human remains representing, at minimum, two individuals were removed from Deer Island (22HR500), Taneksanya (22JA504), and Greenwood Island (22JA516), MS. While in storage, the human remains from these three sites were commingled before being given to MDAH, and thus had to be analyzed as a single group. While the minimum number of human remains is based on the presence of right left tali and two left humeral midshafts, the actual number of individuals present could be larger. Skeletal elements include a number of vault fragments, portions of scapula and ischium, several ribs and vertebrae, segments of all upper limb long bones, proximal femur, portions of fibula, and numerous foot bones. Based on the range of size and robusticity seen, both males and females are present. Recent fusion of two metacarpal epiphyses are consistent with one individual being an adolescent. No known individuals were identified. No associated funerary objects are present.

Determinations Made by the University of Southern Mississippi

Officials of the University of Southern Mississippi have determined that:

• Pursuant to 25 U.S.C. 3001(9), the human remains described in this notice represent the physical remains of 28 individuals of Native American ancestry.

• Pursuant to 25 U.S.C. 3001(2), there is a relationship of shared group identity can be reasonably traced between the Native American human remains and The Consulted Tribes.

Additional Requestors and Disposition

Lineal descendants or representatives of any Indian Tribe or Native Hawaiian organization not identified in this notice that wish to request transfer of control of these human should submit a written request with information in support of the request to Marie Elaine Danforth, Professor, School of Social Science and Global Studies, University of Southern Mississippi, 118 College Drive #5108, Hattiesburg, MS 39406-0001, telephone (601) 266-5629, email m.danforth@usm.edu, by February 3, 2020. After that date, if no additional requestors have come forward, transfer of control of the human remains to The Consulted Tribes may proceed.

The University of Southern Mississippi is responsible for notifying The Consulted Tribes and The Invited Tribes that this notice has been published.

Dated: November 14, 2019.
Melanie O'Brien,
Manager, National NAGPRA Program.

[FR Doc. 2019-28376 Filed 1-2-20; 8:45 am]

BILLING CODE 4312-52-P